DEPARTMENT OF HOUSING AND URBAN DEVELOPMENT

[Docket No. FR-5700-FA-11]

Announcement of Funding Awards for the Self-Help Homeownership Opportunity Program (SHOP) for Fiscal Year 2013

AGENCY: Office of Community Planning and Development, HUD.

ACTION: Announcement of funding awards.

SUMMARY: In accordance with Section 102(a)(4)(C) of the Department of Housing and Urban Development Reform Act of 1989, this announcement notifies the public of the Department's funding decisions with respect to the Fiscal Year 2013 (FY2013) Notice of Funding Availability (NOFA) for the Self-Help Homeownership Opportunity Program (SHOP) that was posted on the Grants.gov Web site. This announcement contains the names and addresses of the recipients of the FY2013 SHOP grant awards.

FOR FURTHER INFORMATION CONTACT: Ginger Macomber, SHOP Program Manager, Office of Affordable Housing Programs, Department of Housing and Urban Development, 451 Seventh Street SW., Washington, DC 20410-4500, telephone (202) 402-4605. Hearing or speech-impaired individuals may access this number via TTY by calling the toll-free Federal Information Service at (800) 877-8339.

SUPPLEMENTARY INFORMATION: The SHOP program provides federal grants on a competitive basis to national and regional nonprofit organizations and consortia to undertake self-help homeownership housing programs. Grantees may carry out SHOP activities directly and/or distribute SHOP funds to local nonprofit affiliate organizations. SHOP Grant funds must be used for land acquisition, infrastructure improvements, and for reasonable and necessary planning, administration and management costs (not to exceed 20 percent). The average SHOP Grant expenditure for the combined costs of land acquisition and infrastructure improvements must not exceed $15,000 per SHOP unit. The construction or rehabilitation costs of each SHOP unit must be funded with other leveraged public and private funds.

Low-income homebuyers must contribute a significant amount of sweat equity towards the development of the SHOP units. Sweat equity involves participation in the construction of the housing, which can include, but is not limited to, assisting in the painting, carpentry, trim work, drywall, roofing, and siding for the housing. Reasonable accommodations must be made for homebuyers with disabilities. Labor is also contributed by community volunteers. The SHOP funds together with the homebuyer's sweat equity and volunteer labor contributions significantly reduce the cost of the housing for the low-income homebuyers.

SHOP units must be decent, safe, and sanitary non-luxury dwellings that comply with state and local codes, ordinances, and zoning requirements, and with the SHOP requirements (including requirements for energy-efficiency and water conservation). The SHOP units must be sold to homebuyers at prices below the prevailing market price. A homebuyer's sweat equity contribution must not be mortgaged or otherwise restricted upon future sale of the SHOP unit.

HUD awarded FY2013 SHOP grants to the following self-help housing organizations in accordance with the competitive criteria set forth in the FY2013 SHOP NOFA.

Community Frameworks, 409 Pacific Avenue Suite 105, Bremerton, WA 98337 | $1,579,500
Habitat for Humanity International, 270 Peachtree Street NW., Atlanta, GA 30303 | 7,700,637
Housing Assistance Council, 1025 Vermont Avenue NW., Washington, DC 20005 | 2,846,803
Tierra del Sol Housing Corporation (lead entity), Western States Housing Consortium, 210 East Idaho Avenue, 880 Anthony Drive, Las Cruces, NM 88005 | 666,929.
Total | 12,793,869

These organizations propose to distribute their SHOP grant funds to over a hundred local affiliates and consortium members that will acquire and prepare land for development, provide homebuyer counseling, select homebuyers, coordinate the homebuyer sweat equity and volunteer labor efforts, and assist in arranging interim and permanent financing. At least 718 units of self-help homeownership housing will be completed and conveyed to low-income homebuyers.

Dated: September 11, 2013.
Mark Johnston,
Deputy Assistant Secretary for Special Needs.

[FR Doc. 2013-22817 Filed 9-18-13; 8:45 am]

BILLING CODE 4210-67-P